DEPARTMENT OF JUSTICE

Antitrust Division

Notice Pursuant to the National Cooperative Research and Production Act of 1993—Blu-Ray Disc Founders

Notice is hereby given that, on September 20, 2004, pursuant to Section 6(a) of the National Cooperative Research and Production Act of 1993, 15 U.S.C. 4301 et seq. (“the Act”), Blu-ray Disc Founders (“BDF”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: Blu-ray Disc Founders, Tokyo, Japan. The nature and scope of BDF's standards development activities are: (1) To establish the Blu-ray Disc Format for each application, as well as revisions, improvements and extensions of such Blu-ray Disc Format; (2) to organize activities to verify the compliance with the Blu-ray Disc Format and enable the broad acceptance of the Blu-ray Disc Format; (3) to promote the Blu-ray Disc Format as the format for recording, playback, storage and distribution of large volume content, including high definition content; and (4) to license the Blu-ray Disc Format and the Blu-ray Disc Logo.

Dorothy B. Fountain,
Deputy Director of Operations, Antitrust Division.

[FR Doc. 04-23781 Filed 10-22-04; 8:45 am]

BILLING CODE 4410-11-M